DEPARTMENT OF THE INTERIOR

Fish and Wildlife Service

50 CFR Part 17

RIN 1018-AF32

Endangered and Threatened Wildlife and Plants; Reopening of Comment Period and Notice of Availability of Draft Economic Analysis for Proposed Critical Habitat Determination for the Coastal California Gnatcatcher

AGENCY: Fish and Wildlife Service, Interior.

ACTION: Proposed rule; reopening of comment period and notice of availability of draft economic analysis.

SUMMARY: The U.S. Fish and Wildlife Service announces the availability of the draft economic analysis for the proposed designation of critical habitat for the coastal California gnatcatcher (Polioptila californica californica). We are also providing notice of the reopening of the comment period for the proposal to designate critical habitat for the coastal California gnatcatcher to allow all interested parties to submit written comments on the proposal and on the draft economic analysis. Comments previously submitted need not be resubmitted as they will be incorporated into the public record as a part of this reopened comment period and will be fully considered in the final rule.

DATES: The original comment period on the critical habitat proposal closed on April 7, 2000. The comment period is again reopened and we will accept comments until July 31, 2000. Comments must be received by 5:00 p.m. on the closing date. Any comments that are received after the closing date may not be considered in the final decision on this proposal.

ADDRESSES: Copies of the draft economic analysis are available on the Internet at “www.r1.fws.gov.” or by writing to the Field Supervisor, U.S. Fish and Wildlife Service, Carlsbad Fish and Wildlife Office, 2730 Loker Avenue West, Carlsbad, California, 92008. Written comments should be sent to the Field Supervisor at the above address. You may also send comments by electronic mail (e-mail) to “http://pacific.fws.gov/crithab/cg.” Please submit electronic comments in ASCII file format and avoid the use of special characters and encryption. Please include “Attn: [RIN 1018-AF32]” and your name and return address in your e-mail message. If you do not receive a confirmation from the system that we have received your e-mail message, contact us directly by calling our Carlsbad Fish and Wildlife Office at phone number 760-431-9440. Comments and materials received will be available for public inspection, by appointment, during normal business hours at the above Service address.

FOR FURTHER INFORMATION CONTACT: Douglas Krofta, Fish and Wildlife Biologist, Carlsbad Fish and Wildlife Office, at the above address (telephone 760-431-9440; facsimile 760-431-9624).

SUPPLEMENTARY INFORMATION:

Background

The coastal California gnatcatcher is a small, insect-eating bird with dark blue-gray plumage above and grayish-white plumage below. The tail is mostly black above and below. The male has a distinctive black cap which is absent during the winter. Both sexes have a distinctive white eye-ring. The coastal California gnatcatcher is primarily restricted to sage scrub and scrub habitats found in coastal southern California and northwestern Baja California, Mexico, from Ventura and San Bernardino counties, California, south to approximately El Rosario, Mexico, at about 30° north latitude. The once-common species was federally listed as threatened in March 1993, due to habitat loss and fragmentation resulting from urban and agricultural development, and the cumulative effects of cowbird parasitism and predation (58 FR 16742). On February 7, 2000, we published a determination proposing 323,726 hectares (799,916 acres) of sage scrub and scrub habitats as critical habitat for the coastal California gnatcatcher in the Federal Register (65 FR 5946) pursuant to the Endangered Species Act of 1973, as amended (Act). Critical habitat is proposed in Los Angeles, Orange, Riverside, San Bernardino, and San Diego counties, California, as described in the proposed determination.

Section 4(b)(2) of the Act requires that the Secretary shall designate or revise critical habitat based upon the best scientific and commercial data available and after taking into consideration the economic impact of specifying any particular area as critical habitat. Based upon the previously published proposal to designate critical habitat for the coastal California gnatcatcher and comments received during the previous comment period, we have prepared a draft economic analysis of the proposed critical habitat designation, which is available at the above Internet and mailing address. We have reopened the comment period at this time in order to accept the best and most current scientific and commercial data available regarding the proposed critical habitat and the draft economic analysis. We will accept written comments during this reopened comment period. Previously submitted oral or written comments on this critical habitat proposal need not be resubmitted. The current comment period on this proposal closes on July 31, 2000. Written comments may be submitted to the Carlsbad Fish and Wildlife Office in the ADDRESSES section.

Author

The primary author of this notice is Douglas Krofta (see ADDRESSES section).

Authority: The authority for this action is the Endangered Species Act of 1973 (16 U.S.C. 1531 et seq.).

Dated: June 23, 2000.
Michael J. Spear,
Manager, California/Nevada Operations.

[FR Doc. 00-16511 Filed 6-28-00; 8:45 am]

BILLING CODE 4310-55-P